CONSUMER PRODUCT SAFETY COMMISSION

16 CFR Part 1110

[CPSC Docket No. 2013-0017]

Certificates of Compliance; Correction

AGENCY: Consumer Product Safety Commission.

ACTION: Final rule; correction.

SUMMARY: On January 8, 2025, in consultation with U.S. Customs and Border Protection (CBP), the U.S. Consumer Product Safety Commission (Commission or CPSC) issued a final rule to revise the agency's regulation for Certificates of Compliance (certificates). The final rule contained two “effective dates” for products subject to the final rule based on how products were manufactured or imported into the United States. CPSC is making a technical correction to the DATES section of the final rule because the Office of the Federal Register requires one “effective date.” The corrected final rule will contain one “effective date” for the final rule and two “applicability dates” based on how products are manufactured or imported into the United States. This technical correction has no substantive effect on the dates by which products subject to the final rule must be in compliance.

DATES: As of September 23, 2025, the effective date of the final rule published at 90 FR 1800 on January 8, 2025, is July 8, 2026.

FOR FURTHER INFORMATION CONTACT: Kat Rickerson, eFiling Program Specialist, U.S. Consumer Product Safety Commission, 4330 East-West Highway, Bethesda, MD 20814; telephone 240-429-4257; email: eFilingsupport@cpsc.gov.

SUPPLEMENTARY INFORMATION: The Commission is making a technical correction to the DATES section of the final rule. This correction has no substantive effect on the dates by which products subject to the final rule must be in compliance. The final rule revises the requirements for certificates of compliance (certificates) in 16 CFR part 1110. 90 FR 1800. The final rule applies to importers, domestic manufacturers, and private labelers who are required to issue certificates for consumer products and substances ¹ regulated by CPSC that are imported for consumption or warehousing into the United States or are distributed in commerce in the United States. The final rule contained two effective dates, one effective date of July 8, 2026, for all CPSC regulated consumer products and substances subject to the final rule and required to be certified, except for products and substances imported into a foreign trade zone (FTZ) and subsequently entered for consumption or warehousing. The final rule provided additional time for CPSC regulated products imported through an FTZ to comply, stating an effective date of January 8, 2027.

¹ Section 14(a) of the Consumer Product Safety Act (CPSA) requires that manufacturers, including importers, and private labelers issue certificates for all consumer products subject to a consumer product safety rule under the CPSA, or a similar rule, ban, standard, or regulation under any other law enforced by the Commission, that are imported for consumption or warehousing or distributed in commerce. 15 U.S.C. 2052(a)(11)-(12); 15 U.S.C. 2063(a)(1).

Because the Office of the Federal Register requires one effective date for inclusion of the regulatory text of the final rule into the Code of Federal Regulations, in this document, CPSC is correcting the DATES section of the final rule to contain one effective date, July 8, 2026, and two applicability dates. For all CPSC regulated consumer products and substances subject to the final rule that are required to be certified, except for products imported through a foreign trade zone (FTZ), the final rule is applicable on July 8, 2026. For CPSC regulated products and substances imported into a foreign trade zone (FTZ) and subsequently entered for consumption or warehousing, the final rule is applicable on January 8, 2027. Accordingly, this correction has no substantive effect on the dates by which the subject products must be in compliance with the final rule.

Correction

In FR Rule Doc. No. 2024-30826 appearing on page 1800 in the Federal Register of Wednesday, January 8, 2025, the following correction is made: DATES: [Corrected]

1. On page 1800, in the first column, in the first and second sentences of the DATES section, replace the word “effective” with “applicable”.

2. On page 1800, in the first column, add the following sentence to the beginning of the DATES section: “The Final Rule is effective on July 8, 2026.”

Alberta E. Mills,
Secretary, United States Consumer Product Safety Commission.

[FR Doc. 2025-18521 Filed 9-23-25; 8:45 am]

BILLING CODE 6355-01-P